DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Public Law 92-463, 86 Stat. 770) requires that public notice of these meetings be announced in the Federal Register.

DATES: Tuesday, July 18, 2000, 9:00 a.m. to 6:00 p.m.; Wednesday, July 19, 2000, 9:00 a.m. to 12:00 p.m.

ADDRESSES: General Atomics; 3550 General Atomics Court; Rm. 07/217, San Diego, California.

FOR FURTHER INFORMATION CONTACT: Albert L. Opdenaker, Office of Fusion Energy Sciences; U.S. Department of Energy; 19901 Germantown Road; Germantown, MD 20874-1290; Telephone: 301-903-4927.

SUPPLEMENTARY INFORMATION: Purpose of the Meeting: The purpose of the meeting is to begin the Fusion Energy Sciences Advisory Committee review of the draft Integrated Program Plan (IPP) for Fusion Energy Sciences.

Tentative Agenda

Tuesday, July 18, 2000

• Report on the draft IPP

• Discussion of the draft IPP

• Tour of the DIII-D and the Inertial Fusion Target Laboratory

• Continue Discussions

• Public Comment

• Adjourn

Wednesday, July 19, 2000

• Continue Discussions

• Adjourn

Public Participation: The meeting is open to the public. Persons expecting to attend the meeting should contact Marion Stav via e-mail (marion.stav@gat.com) to facilitate badging procedures. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; 1E-190; Forrestal Building; 1000 Independence Avenue, SW; Washington, DC, between 9:00 a.m. and 4:00 p.m., Monday through Friday, except Federal holidays.

Issued at Washington, DC, on June 20, 2000.
Rachel M. Samuel,
Deputy Advisory Committee Management Officer.

[FR Doc. 00-16050 Filed 6-23-00; 8:45 am]

BILLING CODE 6450-01-P